ENVIRONMENTAL PROTECTION AGENCY

[FRL-7656-3]

Proposed CERCLA Administrative Order on Consent: Robert Canterbury and Sandra Canterbury, Gem Park Complex/Old Vermiculite Mine Site, Fremont County, CO

AGENCY: Environmental Protection Agency.

ACTION: Notice; request for public comment.

SUMMARY: In accordance with section 122(i) of the Comprehensive Environmental Response, Compensation, and Liability Act, as amended (“CERCLA”), 42 U.S.C. 9622(i), notice is hereby given of a proposed settlement for access for a period of one year and recovery of response costs concerning the Gem Park Complex/Old Vermiculite Mine Site, Fremont County, Colorado with Robert Canterbury and Sandra Canterbury. This settlement requires the settling parties to pay $2,500 to the Hazardous Substance Superfund and to allow access. The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

DATES: Comments must be submitted on or before June 2, 2004.

ADDRESSES: Written comments may be mailed to Dawn Tesorero, Technical Enforcement Program, 8ENF-RC, Environmental Protection Agency (EPA), Region 8, 999 18th Street, Suite 300, Denver, Colorado, 80202. Comments should reference the Gem Park Complex/Old Vermiculite Mine Site, Fremont County, Colorado. Copies of the documents relevant to this settlement are available for public inspection at the Superfund Records Center, EPA, Region 8, 999 18th Street, Suite 300, Denver, Colorado, 80202.

FOR FURTHER INFORMATION CONTACT: Dawn Tesorero, EPA, Technical Enforcement Program, (303) 312-6883 at the aforementioned address.

Dated: April 23, 2004.
Carol Rushin,
Assistant Regional Administrator, Office of Enforcement, Compliance, and Environmental Justice.

[FR Doc. 04-9964 Filed 4-30-04; 8:45 am]

BILLING CODE 6560-50-P